DEPARTMENT OF TRANSPORTATION

Federal Aviation Administration

Noise Exposure Map Notice, Memphis International Airport, Memphis TN

AGENCY: Federal Aviation Administration, DOT

ACTION: Notice.

SUMMARY: The Federal Aviation Administration (FAA) announces the determination that the noise exposure maps submitted by Memphis-Shelby County Airport Authority for Memphis International Airport under the provisions of 49 U.S.C. 47501 et seq (Aviation Safety and Noise Abatement Act) and 14 CFR Part 150 are in compliance with applicable requirements.

DATES: The effective date of the FAA's determination on the noise exposure maps is July 29, 2005.

FOR FURTHER INFORMATION CONTACT: Mr. Tommy L. Dupree, Federal Aviation Administration, Memphis Airports District Office, 2862 Business Park Drive, Building G, Memphis, Tennessee, 38118-1555 (901) 322-8185.

SUPPLEMENTARY INFORMATION: This notice announces that the FAA finds that the noise exposure maps submitted for Memphis International. Airport are in compliance with applicable requirements of part 150, effective July 29, 2005. Under 49 U.S.C. section 47503 of the Aviation Safety and Noise Abatement Act (hereinafter referred to as “the Act”), an airport operator may submit to the FAA noise exposure maps which met applicable regulations and which depict non-compatible land uses as of the date of submission of such maps, a description of projected aircraft operations, and the ways in which such operations will affect such maps. The Act requires such maps to be developed in consultation with interested and affected parties in the local community, government agencies, and persons using the airport. An airport operator who has submitted noise exposure maps that are found by FAA to be in compliance with the requirements of Federal Aviation Regulations (FAR) part 150, promulgated pursuant to the Act, may submit a noise compatibility program for FAA approval which sets forth the measures the operator has taken or proposes to take to reduce existing non-compatible uses and prevent the introduction of additional non-compatible uses. The FAA has completed its review of the noise exposure maps and accompanying documentation submitted by the Memphis-Shelby County Airport Authority. The documentation that constitutes the “noise exposure maps” as defined in § 150.7 of part 150 includes Figure 2.1. “Vicinity Map”, Figure 2.2, “Runway Configuration”, Figure 2.3, “MEM Area Airspace”, Figure 2.4, “Overall Directional Runway Utilization”, Figure 2.5, “North/east Flow Radar Flight Tracks”, Figure 2.6, “Northeast Flow INM Flight Tracks”, Figure 2.7, “South/West Flow Radar Flight Tracks”, Figure 2.8, “South/West Flow NM Flight Tracks”, Figure 2.10, “Runways 1 8L/C/R Departure Radar Data and Protected Areas South of MEM”, Figure 2.11, “Runway 27 Departure Radar Data and Protected Area West of MEM”, Figure 3.1, “Study Area Boundaries and Jurisdictions”, Figure 3.2, “Land Use in Memphis & Shelby County”, Figure 3.5, “City of Southhaven Future Land Use Plan”, Figure 3.6, “City of Southhaven Proposed Land Use For Area 2”, Figure 3.7, “City of Horn Lake Proposed Land Use Map”, Figure 3.9, “ De Soto County Future Land Use Map”, Figure 3.10, “Noise Sensitive Sites”, Figure 4.2, “2004 Existing Condition Noise Exposure Map”, Figure 4.6, “2004 Existing Condition NEM With Noncompatible Land Use”, Figure 5.2, “2009 Future Condition Noise Exposure Map”, Figure 5.5, “2009 Future Condition NEM With Noncompatible Land Use”, Table 3.2, “Noise Sensitive Sites”, Table 4.1, “2004 Existing Condition Noise Exposure Estimates”, Table 4.2, “2004 Existing Condition Day-Night Level (DNL) at Selected /Sites”, Table 5.1, “2009 Future Condition Noise Exposure Estimates”, Table 5.2, “2009 Future Condition Day-Night Level (DNL) at Selected Sites”.

The FAA has determined that these noise exposure maps and accompanying documentation are in compliance with applicable requirements. This determination is effective on July 29, 2005.

FAA's determination on the airport operator's noise exposure maps is limited to a finding that the maps were developed in accordance with the procedures contained in Appendix A of FAR part 150. Such determination does not constitute approval of the applicant's data, information, or plans, or a commitment to approve a noise compatibility program or to fund the implementation of that program. If questions arise concerning the precise relationship of specific properties to noise exposure contours depicted on a noise exposure map submitted under section 47503 of the Act, it should be noted that the FAA is not involved in any way in determining the relative locations of specific properties with regard to the depicted noise contours, or in interpreting the noise exposure maps to resolve questions concerning, for example, which properties should be covered by the provisions of section 47506 of the Act. These functions are inseparable from the ultimate land use control and planning responsibilities of local government. These local responsibilities are not changed in any way under part 150 or through FAA's review of noise exposure maps. Therefore, the responsibility for the detailed overlaying of noise exposure contours onto the map depicting properties on the surface rests exclusively with the airport operator that submitted those maps, or with those public agencies and planning agencies with which consultation is required under section 47503 of the Act. The FAA has relied on the certification by the airport operator under section 150.21 of FAR part 150, that the statutorily required consultation has been accomplished.

Copies of the noise exposure maps documentation and of the FAA's evaluation of the maps are available for examination at the following locations:

Federal Aviation Administration, Memphis Airports District Office, 2862 Business Park Drive, Building G, Memphis, Tennessee, 38118-1555.

Memphis-Shelby County Airport Authority, Memphis International Metropolitan Airport, 2491 Winchester Road, Suite 113, Memphis, Tennessee 38118-3856.

Question may be directed to the individual named above under the heading FOR FURTHER INFORMATION CONTACT.

Issued in Memphis, Tennessee, July 29, 2005.
Rans D. Black,
Manager, Memphis Airports District Office.

[FR Doc. 05-15462 Filed 8-4-05; 8:45 am]

BILLING CODE 4910-13-M